DEPARTMENT OF JUSTICE

Antitrust Division

Notice Pursuant to the National Cooperative Research and Production Act of 1993—Hart Communication Foundation (“HCF”)

Notice is hereby given that, on November 3, 1998, pursuant to Section 6(a) of the National Cooperative Research and Production Act of 1993, 15 U.S.C. 4301 et seq. (“the Act”), Hart Communication Foundation (“HCF”) has filed written notifications simultaneously with the Attorney General and the Federal Trade Commission disclosing changes in its membership status. The notifications were filed for the purpose of extending the Act's provisions limiting the recovery of antitrust plaintiffs to actual damages under specified circumstances. Specifically, Action Instruments, Inc., San Diego, CA; Amdell Ltd., Thebarton, AUSTRALIA; Burkert GmbH & Company KG, Ingelfingen, GERMANY; Camille Bauer AG, Wohlen, SWITZERLAND; CEGELEC-BPT, Camart, Cedex, FRANCE; DANFOSS A/S, Nordborg, DENMARK; Direct Measurement Corp., Longmont, CO; Druck Ltd., Groby, Leicester, UNITED KINGDOM; Dynisco Instruments, Sharon, MA; Elcon Instruments, Norcross, GA; EMCO Flowmeters, Longmont, CO; Fluke Electronics Corporation, Everett, WA; GLI International Inc., Milwaukee, WI; Huakong Technology Co., Ltd., Beijing, CHINA; Jordan Controls, Inc., Milwaukee, WI; Klay Instruments B. V., Dwingeloo, THE NETHERLANDS; LABOM Mess-und Regeltechnik GmbH, Hude, GERMANY; M-System Co., Ltd., Yokohama, JAPAN; Paper Machine Components, Inc. (PMC), Danbury, CT; Rochester Instrument Systems, Inc., Rochester, NY; Sparling Instruments, Inc., El Monte, CA; Spriano S.p.A., Vimodrone, ITALY; Tokyo Keiso Company, Ltd., Tokyo, JAPAN; TROLEX Limited, Stockport, Cheshire, UNITED KINGDOM; TURBO-Werk Messtechnik GmbH, Koln, GERMANY; U.S. Electrical Motors, St. Louis, MO; Val Controls A/S, Esbjerg, DENMARK; VALCOM S.r.l., Milan, ITALY; VorTek Instruments, LLC, Longmont, CO; W. Borst, Fachingen, GERMANY; WIKA Alexander Wiegand GmbH, Klingenberg, GERMANY; Worcester Controls Corporation, Marlboro, MA; Yokogawa Europe B.V., Amersfoort, THE NETHERLANDS; and Zaklady Automatyki Przemyslowej S.A., Ostrow Wielkopolski, POLAND have been added as parties to this venture.

No other changes have been made in either the membership or planned activity of the group research project. Membership in this group research project remains open, and Hart Communication Foundation (“HCF”) intends to file additional written notification disclosing all changes in membership.

On March 17, 1994, Hart Communication Foundation (“HCF”) filed its original notification pursuant to Section 6(a) of the Act. The Department of Justice published a notice in the Federal Register pursuant to Section 6(b) of the Act on May 5, 1994 (59 FR 23234).

The last notification was filed with the Department on December 8, 1996. A notice was published in the Federal Register pursuant to Section 6(b) of the Act on April 3, 1997 (62 FR 5939).

Constance K. Robinson,
Director of Operations, Antitrust Division.

[FR Doc. 00-8078 Filed 3-31-00; 8:45 am]

BILLING CODE 4410-11-M